DEPARTMENT OF DEFENSE

Department of the Army

[USA-2006-0029]

Privacy Act of 1974; System of Records

AGENCY: Department of the Army.

ACTION: Notice to alter a system of records.

SUMMARY: The Department of the Army is proposing to alter a system of records to its existing inventory of records systems subject to the Privacy Act of 1974, (5 U.S.C. 552a), as amended.

DATES: The proposed action will be effective on September 27, 2006 unless comments are received that would result in a contrary determination.

ADDRESSES: Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6503.

SUPPLEMENTARY INFORMATION: The Department of the Army systems of records notices subject to the Privacy Act of 1974, (5 U.S.C. 552a), as amended, have been published in the Federal Register and are available from the address above.

The proposed system report, as required by 5 U.S.C. 52a(r) of the Privacy Act of 1974, as amended, was submitted on August 14, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 21, 2006.
C.R. Choate,
Alternate OSD Federal Register Liaison Officer, Department of Defense.

AFFES 0207.02

System name:

Customer Comments, Inquiries, and Direct Line Files (August 9, 1996, 61 FR 41572).

Changes:

* * * * *

Name:

Delete name and replace with “Customer Solicitations, comments, Inquiries, and Direct Line Records.”

* * * * *

Categories of records in the system:

Add to entry “customers' e-mail solicitations.”

Authority for maintenance of the system:

Delete entry and replace with “10 U.S.C. 3013, Secretary of the Army; 10 U.S.C. 8013, Secretary of the Air Force; Army Regulation 60-10, Army and Air Force Exchange Service General Policies; and Army Regulation 60-20, Army and Air Force Exchange Service Operating Policies.”

Purpose(s):

Delete entry and replace with “To aid the Exchange management in determining needs of customers and action required to settle customer complaints and to electronically notify potential customers, who voluntarily provide their e-mail address, information about special events, sales, and other information about shopping at the Exchange.”

* * * * *

Storage:

Delete entry and replace with “Paper records in file folders and on electronic storage media.”

* * * * *

System manager(s) and address:

Add at the end of the entry “and local managers at Exchanges world-wide.”

* * * * *

AAFES 0207.02

System name:

Customer Solicitations, Comments, Inquiries, and Direct Line Records.

System location:

Headquarters, Army and Air Force Exchange Service, 3911 S. Walton Walker Boulevard, Dallas, TX 75236-1598; Army and Air Force Exchange Service-Europe Region, Building 4001, In der Witz 14-18, 55252 Mainz-Kastel, Germany; and Exchange Regions and Area Exchanges at posts, bases, and satellites world-wide. Official mailing addresses are published as an appendix to the Army's compilation of systems of records notices.

Categories of individuals covered by the system:

Users of the Army and Air Force Exchange Service who make inquiries, complaints, or comments on its operations.

Categories of records in the system:

Customer's name, address and telephone number, information pertaining to the subject of inquiry, complaint, or comment and response thereto; customer opinion survey data; and customers' e-mail solicitations.

Authority for maintenance of the system:

10 U.S.C. 3013, Secretary of the Army; 10 U.S.C. 8013, Secretary of the Air Force; Army Regulation 60-10, Army and Air Force Exchange Service General Policies; and Army Regulation 60-20, Army and Air Force Exchange Service Operating Policies.

Purpose(s):

To aid the Exchange management in determining needs of customers and action required to settle customer complaints and to electronically notify potential customers, who voluntarily provide their e-mail address, information about special events, sales, and other information about shopping at the Exchange.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices apply to this system.

Policies and practices for storing, retrieving, accessing, retaining, and disposing of records in the system:

Storage:

Paper records in file folders and on electronic storage media.

Retrievability:

By customer's name.

Safeguards:

Records are accessible only by designated employees having official need therefore. Buildings housing records are protected by security guards.

Retention and disposal:

Records are destroyed by shredding after 3 years.

System manager(s) and address:

Commander, Army and Air Force Exchange Service, 3911 S. Walton Walker Boulevard, Dallas, TX 75236-1598, and local managers at Exchanges world-wide.

Notification procedure:

Individuals seeking to determine whether information about themselves is contained in this system should address written inquiries to the Commander, Army and Air Force Exchange Service, ATTN: Director, Public Affairs Division, 3911 S. Walton Walker Boulevard, Dallas, TX 75236-1598.

Individual should provide their full name, current address and telephone number, case number that appeared on correspondence received from AAFES, and signature.

Record access procedures:

Individuals seeking access to information about themselves contained in this system should address written inquiries to the Commander, Army and Air Force Exchange Service, ATTN: Director, Public Affairs Division, 3911 S. Walton Walker Boulevard, Dallas, TX 75236-1598.

Individual should provide their full name, current address and telephone number, case number that appeared on correspondence received from AAFES, and signature.

Contesting record procedures:

The Army's rules for accessing records and for contesting contents and appealing initial agency determinations are contained in Army Regulation 340-21; 32 CFR part 505; or may be obtained from the system manager.

Record source categories:

From the individual.

Exemptions claimed for the system:

None.

[FR Doc. 06-7185 Filed 8-25-06; 8:45 am]

BILLING CODE 5001-06-M